DEPARTMENT OF ENERGY

Federal Energy Regulatory Commission

[Docket No. ER06-615-002]

California Independent System Operator Corporation; Supplemental Notice of Technical Conference

December 7, 2006.

As announced in the Notice of Technical Conference issued on October 24, 2006, the Federal Energy Regulatory Commission (Commission) will host a technical conference on Thursday and Friday, December 14-15, 2006 to address issues related to the California Independent System Operator Corporation's (CAISO) electric tariff, which reflects the Market Redesign and Technology Upgrade (MRTU). The purpose of the technical conference is to assist the CAISO and parties outside the CAISO Control Area to identify alleged seams issues that require resolution, in accordance with the directive of the Commission's September 21, 2006 order conditionally accepting the CAISO's proposed MRTU electric tariff.

The conference will be held at the Biltmore Hotel at 2400 East Missouri in Phoenix, Arizona. The conference is scheduled for Thursday, December 14 from 1 to 5 p.m. and Friday, December 15, from 8:30 a.m. to 12:30 p.m. (MST). Commissioners will attend, and the conference is open to the public.

The agenda for this conference, with a list of participating panelists, is attached.

All interested persons may attend the conference, and registration is not a strict requirement. However, in-person attendees are encouraged to register on-line at http://www.ferc.gov/whats-new/registration/caiso-12-14-form.asp.

For more information about the conference, please contact Sarah McKinley at 202-502-8004, sarah.mckinley@ferc.gov.

Magalie R. Salas,
Secretary.

Agenda and Panelists for MRTU Seams Technical Conference, Phoenix, AZ—December 14-15, 2006

Thursday, December 14, 1-5 p.m. (MST)

1-1:15 p.m.

Greeting and opening remarks by Chairman Joseph Kelliher

1:15-3 p.m.

Panel 1: Operational Seams Between CAISO and Other Systems (including systems within CAISO's footprint)

Presentations by Panel 1 Panelists:

Brian Silverstein, Vice President of Planning & Asset Management and Chief Engineer, Bonneville Power Administration.

Jerry Smith, Manager of Alliance Partnership, Arizona Public Service Co., and Chair of Western Electricity Coordinating Council Seams Issues Subcommittee.

Chuck Durick, Transmission Reform Regional Manager, Idaho Power.

Gary Harper, Manager of System Operations, Salt River Project.

Robert Kahn, Executive Director, Northwest Independent Power Producers Coalition.

Mark J. Smith, Director of Market Affairs, FPL Energy.

Charles A. King, Vice President of Market Development and Program Management, and Mark Rothleder, Principal Market Developer, CAISO.

3-3:15 p.m.

Break

3:15-5 p.m.

Q&A and Discussion

Friday, December 15, 8:30 a.m.-12:30 p.m. (MST)

8:30-10 a.m.

Panel 2: Commercial, Contractual and Financial Issues

Presentations by Panel 2 Panelists:

Jeff Sterba, Chairman, President and CEO, Public Service Company of New Mexico.

Sean Gallagher, Director, Energy Division, California Public Utilities Commission.

Pedro J. Pizarro, Senior Vice President, Power Procurement, Southern California Edison Company.

Marilyn Showalter, Executive Director, Public Power Council.

Jim Shetler, Assistant General Manager, Energy Supply, Sacramento Municipal Utility District.

Gary Ackerman, Executive Director, Western Power Trading Forum.

Yakout Mansour, President and CEO, CAISO.

10-10:15 a.m.

Break 10:15-11:45 a.m.

Q&A and Discussion

11:45 a.m.-12:15 p.m.

Conference take-aways and process for next steps

12:15-12:30 p.m.

Concluding remarks by Chairman Joseph Kelliher and Commissioners

[FR Doc. E6-21249 Filed 12-13-06; 8:45 am]

BILLING CODE 6717-01-P